DEPARTMENT OF TRANSPORTATION

Surface Transportation Board

[STB Finance Docket No. 33872]

Alabama & Gulf Coast Railway LLC—Trackage Rights Exemption—The Burlington Northern and Santa Fe Railway Company

The Burlington Northern and Santa Fe Railway Company has agreed to grant overhead trackage rights to Alabama & Gulf Coast Railway LLC (AGR) of Monroeville, AL, between the end of AGR's line at milepost 776.10 near Kimbrough, AL, and a point of connection with the Norfolk Southern Railway Company (NS) at milepost 774.10 near Kimbrough, AL, a distance of approximately 2 miles in Wilcox County, AL.

The transaction was scheduled to be consummated on or shortly after May 4, 2000.

The purpose of the trackage rights is to permit AGR to directly interchange traffic with NS for the handling of traffic to and from MacMillan, AL.

As a condition to this exemption, any employees affected by the trackage rights will be protected by the conditions imposed in Norfolk and Western Ry. Co.—Trackage Rights—BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33872, must be filed with the Surface Transportation Board, Office of the Secretary, Case Control Unit, 1925 K Street, NW., Washington, DC 20423-0001. In addition, one copy of each pleading must be served on Fritz R. Kahn, 1920 N Street, NW., 8th Floor, Washington, DC 20036-1601.

Board decisions and notices are available on our website at “WWW.STB.DOT.GOV.”

By the Board, David M. Konschnik, Director, Office of Proceedings.
Decided: May 5, 2000.
Vernon A. Williams,
Secretary.

[FR Doc. 00-11841 Filed 5-12-00; 8:45 am]

BILLING CODE 4915-00-P